DEPARTMENT OF HEALTH AND HUMAN SERVICES

[CMS-9961-N]

Recognition of Entities for the Accreditation of Qualified Health Plans

AGENCY: Department of Health and Human Services.

ACTION: Notice.

SUMMARY: This notice announces the recognition of the National Committee for Quality Assurance (NCQA) and URAC as recognized accrediting entities for the purposes of fulfilling the accreditation requirement as part of qualified health plan certification.

DATES: This notice is effective on November 20, 2012.

FOR FURTHER INFORMATION CONTACT:

Rebecca Zimmermann, (301) 492-4396.

Deborah Greene, (301) 492-4293.

SUPPLEMENTARY INFORMATION:

I. Background

Section 1311(c)(1)(D) of the Affordable Care Act specifies that to be certified as a qualified health plan (QHP) and operate in the Exchange, a health plan must be accredited by a recognized accrediting entity on a uniform timeline established by the applicable Exchange. On July 20, 2012, we published a final rule in the Federal Register (77 FR 42658) titled, “Patient Protection and Affordable Care Act; Data Collection To Support Standards Related to Essential Health Benefits; Recognition of Entities for the Accreditation of Qualified Health Plans.” In that rule, we finalized 45 CFR 156.275(c), which specified the requirements for accrediting entities to be recognized for the purposes of fulfilling the accreditation requirement as part of QHP certification. We also established that, effective upon completion of the conditions at § 156.275 in paragraphs (c)(2) through (c)(4), that the National Committee for Quality Assurance (NCQA) and URAC will be recognized as accrediting entities for the purposes of QHP certification and that the Department of Health and Human Services (HHS) will notify the public of this recognition in the Federal Register. As discussed in the preamble to the final rule published on July 20, 2012, the recognition of accrediting entities in phase one is effective until it is rescinded or this interim phase one process is replaced by the phase two process.

II. Provisions of the Final Notice

NCQA and URAC met the requirements and criteria described in the final rule to be recognized as an accrediting entity (77 FR 42662 through 42668). Therefore, this notice serves as public notification that NCQA and URAC are recognized by the Secretary of HHS ¹ as accrediting entities for the purposes of QHP certification.

¹ Delegated to CCIIO, 76 FR 53903 through 53906 2011-08-30.

III. Collection of Information Requirements

This document does not impose information collection and recordkeeping requirements. Consequently, it need not be reviewed by the Office of Management and Budget under the authority of the Paperwork Reduction Act of 1995.

Dated: November 8, 2012.
Marilyn Tavenner,
Acting Administrator, Centers for Medicare & Medicaid Services.

[FR Doc. 2012-28440 Filed 11-20-12; 11:15 am]

BILLING CODE 4120-01-P